DEPARTMENT OF JUSTICE

Office of Juvenile Justice and Delinquency Prevention

[OJP (OJJDP)-1263]

Announcement of the Juvenile Mentoring Program Discretionary Competitive Assistance Program

AGENCY: Office of Justice Programs, Office of Juvenile Justice and Delinquency Prevention, Justice.

ACTION: Notice of solicitation.

SUMMARY: The Office of Juvenile Justice and Delinquency Prevention is announcing the availability of a program announcement soliciting applications for the Juvenile Mentoring Program (JUMP).

DATES: Applications must be received by 5:00 p.m., ET, on Tuesday, May 23, 2000.

ADDRESSES: All application packages should be mailed or delivered to the Office of Juvenile Justice and Delinquency Prevention, c/o Juvenile Justice Resource Center, 2277 Research Boulevard, Mail Stop 2K, Rockville, MD 20850; 301'519'5535. The application should be submitted on 8½-by 11-inch paper, double-spaced on one side of the paper in a standard 12-point font with each page numbered sequentially. Interested applicants can obtain a copy of the program announcement and the OJJDP Application Kit from the Juvenile Justice Clearinghouse by calling 800-638-8736 or sending a request via Fax-on-Demand (800-638-8736) or e-mail (askncjrs.org). The program announcement and Application Kit are also available at OJJDP's Web site at www.ojjdp.ncjrs.org/grants/current.html.

FOR FURTHER INFORMATION CONTACT: Travis A. Cain or Susan Brunson, Program Managers, Office of Juvenile Justice and Delinquency Prevention, 202-307-5914. [This is not a toll-free number.]

SUPPLEMENTARY INFORMATION: This action is authorized under Part G of the Juvenile Justice and Delinquency Prevention Act of 1974, as amended (Pub. L. 93-415; 42 U.S.C. 5667e et seq.). The JUMP program provides funding for one-to-one mentoring projects for youth at risk of educational failure, dropping out of school, or involvement in delinquent activities, including gangs and substance abuse. The JUMP program strategy is to fund collaborative efforts between local educational agencies and public/private nonprofit organizations or tribal nations to support development of effective mentoring programs for at-risk youth. Applicants should target at-risk youth in high crime areas where 60 percent or more of youth in the participating school are approved to receive Chapter I funds (Free and Reduced Lunch Program) under the Elementary and Secondary Education Act of 1965 and where a considerable number of youth are truant or drop out of school each year. OJJDP encourages applications from both new programs and those programs with proven track records that want to expand their mentoring activities in accordance with this solicitation's program goals and objectives. National organizations are not eligible to compete for funding available through this effort. Awards of up to $210,000 for 3-year budget and project periods will be available.

Dated: March 7, 2000.
John J. Wilson,
Acting Administrator, Office of Juvenile Justice and Delinquency Prevention.

[FR Doc. 00-5908 Filed 3-9-00; 8:45 am]

BILLING CODE 4410-18-P